DEPARTMENT OF HEALTH AND HUMAN SERVICES

Health Resources and Services Administration

Agency Information Collection Activities: Submission to OMB for Review and Approval; Public Comment Request; Small Health Care Provider Quality Improvement Program

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than July 22, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: Small Health Care Provider Quality Improvement Program, OMB No. 0915-0387—Revision.

Abstract: This program is authorized by the Public Health Service Act, section 330A(g) (42 U.S.C. 254c(g)). This authority permits the Federal Office of Rural Health Policy (FORHP) to award Small Health Care Provider Quality Improvement (SHCPQI) grants that expand access to, coordinate, and improve the quality of basic health care services, and enhance the delivery of health care, in rural areas. Specifically, FORHP may award grants to provide for the planning and implementation of SHCPQI activities, including activities related to increasing care coordination, enhancing chronic disease management, and improving patient health outcomes.

The purpose of the SHCPQI Grant Program is to provide support to rural primary care providers for implementation of quality improvement activities. The goal of the program is to promote the development of an evidence-based culture and delivery of coordinated care in the primary care setting. Additional objectives of the program include improved health outcomes for patients, enhanced chronic disease management, and better engagement of patients and their caregivers. Organizations participating in the program are required to use an evidence-based quality improvement model, perform tests of change focused on improvement, and use health information technology (HIT) to collect and report data. HIT may include an electronic patient registry or an electronic health record and is a critical component for improving quality and patient outcomes. With HIT it is possible to generate timely and meaningful data, which helps providers track and plan care. HRSA collects information from grant recipients that participate in this program using an OMB-approved set of performance measures and seeks to extend its approved information collection.

A 60-day notice was published in the Federal Register on February 5, 2024, 89 FR 7724-25. There were no public comments.

Need and Proposed Use of the Information: For this program, performance measures were drafted to provide data to the program and to enable HRSA to provide aggregate program data required by Congress under the Government Performance and Results Act of 1993. These measures cover the principal topic areas of interest to FORHP, including: (1) access to care, (2) population demographics, (3) staffing, (4) consortium/network, (5) sustainability, and (6) project specific domains. All measures will speak to FORHP's progress toward meeting the goals set. FORHP collects this information to quantify the impact of grant funding on access to health care, quality of services, and improvement of health outcomes. FORHP uses the data for program improvement and grantees use the data for performance tracking. No changes are proposed from the current data collection effort, but FORHP estimates fewer respondents to align with the current cohort of grantees and an increase in the average burden per response to account for new personnel.

FORHP received feedback from awardees that personnel changes result in additional training needs for new hires, leading to a longer average time to complete the SHCPQI Performance Improvement and Measurement Systems form. As a result of this feedback, the estimated average burden increased from 8 hours to 13.5 hours per response.

Likely Respondents: The respondents will be the grant recipients (program grantees, not patients who receive health care services) of the SHCPQI Program.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
SHCPQI Performance Improvement and Measurement Systems | 21 | 1 | 21 | 13.5 | 283.5
Total | 21 |  | 21 |  | 283.5

Maria G. Button,
Director, Executive Secretariat.

[FR Doc. 2024-13620 Filed 6-20-24; 8:45 am]

BILLING CODE 4165-15-P